SMALL BUSINESS ADMINISTRATION

[Declaration of Disaster #3534]

State of Ohio

As a result of the President's major disaster declaration on August 1, 2003, I find that Mahoning, Medina, Portage, Summit, and Trumbull Counties in the State of Ohio constitute a disaster area due to damages caused by tornadoes, flooding, severe storms, and high winds occurring on July 21, 2003, and continuing. Applications for loans for physical damage as a result of this disaster may be filed until the close of business on September 30, 2003, and for economic injury until the close of business on May 3, 2004, at the address listed below or other locally announced locations: U.S. Small Business Administration, Disaster Area 2 Office, One Baltimore Place, Suite 300, Atlanta, GA 30308.

In addition, applications for economic injury loans from small businesses located in the following contiguous counties may be filed until the specified date at the above location: Ashland, Ashtabula, Columbiana, Cuyahoga, Geauga, Lorain, Stark, and Wayne in the State of Ohio; and Crawford, Lawrence, and Mercer counties in the State of Pennsylvania.

The interest rates are:

| Percent
For Physical Damage:
Homeowners with credit available elsewhere | 5.625
Homeowners without credit available elsewhere | 2.812
Businesses with credit available elsewhere | 5.906
Businesses and non-profit organizations without credit available elsewhere | 2.953
Others (including non-profit organizations) with credit available elsewhere | 5.500
For Economic Injury:
Businesses and small agricultural cooperatives without credit available elsewhere | 2.953

The number assigned to this disaster for physical damage is 353411. For economic injury the number is 9W6300 for Ohio; and 9W6400 for Pennsylvania.

(Catalog of Federal Domestic Assistance Program Nos. 59002 and 59008)
Dated: August 4, 2003.
Herbert L. Mitchell,
Associate Administrator for Disaster Assistance.

[FR Doc. 03-20313 Filed 8-8-03; 8:45 am]

BILLING CODE 8025-01-P